DEPARTMENT OF COMMERCE

National Oceanic and Atmospheric Administration

[RTID 0648-XC079]

Fisheries of the Exclusive Economic Zone Off Alaska; Request for Information on Bristol Bay Red King Crab Mortality Mitigation Measures

AGENCY: National Marine Fisheries Service (NMFS), National Oceanic and Atmospheric Administration (NOAA), Commerce.

ACTION: Notification; Request for Information (RFI).

SUMMARY: The North Pacific Fishery Management Council (Council) is requesting information from the public on ways to reduce fishing related mortality for Bristol Bay red king crab (BBRKC). Information from commercial fishing sectors is critical to that effort and, therefore, the Council is seeking public input. This notice invites the public to submit written comments on the topic generally and in response to specific questions outlined below.

DATES: Comments must be received via the Council's eAgenda meeting portal by 5 p.m. AKT on September 23, 2022 at https://meetings.npfmc.org/Meeting/Details/2941.

ADDRESSES: Please submit written comments to the Council's' eAgenda meeting portal, at “Bristol Bay Red King Crab—Request for Information (RFI)”: https://meetings.npfmc.org/Meeting/Details/2941 by the September 23, 2022, deadline.

Council address: North Pacific Fishery Management Council, 1007 W 3rd Ave., Anchorage, AK 99501-2252; telephone: (907) 271-2809.

FOR FURTHER INFORMATION CONTACT: Sam Cunningham, Council staff; email: sam.cunningham@noaa.gov; telephone: (907) 271-2809.

SUPPLEMENTARY INFORMATION:

Background

The results of the 2021 eastern Bering Sea bottom trawl survey continued a trend of overall decreasing BBRKC biomass. This trend is primarily driven by a decrease in mature female red king crab abundance. While the abundance of female red king crab has been low in recent years, 2021 was the first year since 1995 that the mature female red king crab abundance fell below the established threshold in the State of Alaska's harvest strategy to hold a directed fishery. As a result, the directed BBRKC fishery was closed for the 2021/22 season. To better understand the decline of BBRKC and scope potential management actions that are within the Council's authority, the Council has reviewed an analysis of trawl gear crab prohibited species catch limits (February 2021) and an emergency rule analysis to expand the Red King Crab Savings Area (RKCSA) in the Bering Sea (December 2021). In April 2022, the Council reviewed a discussion paper addressing an array of topics including red king crab biology, existing management and stock assessment boundaries, seafloor contact by pelagic trawl gear, and flexible spatial management tools used in other fisheries. At its April 2022 meeting, the Council both initiated this RFI and tasked Council and NMFS staff to produce an expanded discussion paper that is fully described in the April 9, 2022, motion linked below. That paper will consider annual or seasonal gear closures to the RKCSA, provide data on BBRKC mortality, identify information that would be needed to implement dynamic time/area closures that could protect mature female BBRKC, assess available information on groundfish predation on BBRKC, and analyze the impacts of limiting groundfish pot gear activity.

Request for Information

This notice requests comment on the motion put forward by the Council on April 9, 2022, which can be viewed at https://tinyurl.com/D1BBRKCcouncilmotion4-9-22. In particular, the Council wishes to hear from Bering Sea commercial fishery sectors that may cause BBRKC mortality, including both directed crab fishing and directed groundfish fishing where red king crab are encountered. See ADDRESSES for information on how to submit comments.

The scope of public comments is not limited, but questions that may be considered include:

1. Voluntary measures for implementation in 2023 and beyond to avoid BBRKC and reduce crab mortality in the non-directed fisheries;

2. Measures in the directed crab fishery to reduce discard mortality of BBRKC;

3. Description of research that would inform development of more flexible and effective spatial management measures; gear modifications to reduce impacts on the BBRKC stock, or to evaluate unobserved mortality in the trawl sector.

The Council will review comments submitted in response to this request for information at the October 2022 Council meeting, which is scheduled to begin on October 3, 2022. The schedule and agenda will be available prior to that meeting. All responses to this request for information will be posted and publicly available on the Council agenda for the October 2022 meeting.

Authority: 16 U.S.C. 1801 et seq.

Dated: June 1, 2022.
Jennifer M. Wallace,
Acting Director, Office of Sustainable Fisheries, National Marine Fisheries Service.

[FR Doc. 2022-12135 Filed 6-3-22; 8:45 am]

BILLING CODE 3510-22-P